ENVIRONMENTAL PROTECTION AGENCY

[ER-FRL-8598-7]

Environmental Impacts Statements; Notice of Availability

Responsible Agency: Office of Federal Activities, General Information (202) 564-1399 or http://www.epa.gov/compliance/nepa/.

Weekly receipt of Environmental Impact Statements

Filed 10/19/2009 through 10/23/2009

Pursuant to 40 CFR 1506.9.

EIS No. 20090359, Final EIS, FHW, MO, MO-63 Corridor Improvement Project, To Correct Roadway Deficiencies, Reduce Congestion and Provide Continuity along the MO-63 Corridor on the Existing Roadway and on New Location, Osage, Maries and Phelps Counties, MO, Wait Period Ends: 11/30/2009, Contact: Peggy Casey, 573-636-7104.

EIS No. 20090360, Draft EIS, NGB, VT, 158th Fighter Wing Vermont Air National Guard Project, Proposed Realignment of National Guard Avenue and Main Gate Construction, Burlington International Airport in South Burlington, VT, Comment Period Ends: 12/14/2009, Contact: Robert L. Dogan, 301-836-8859.

EIS No. 20090361, Final EIS, NOA, 00, PROGRAMMATIC—Toward an Ecosystem Approach for the Western Pacific Region: From Species-Based Fishery Management Plans to Place-Based Fishery Ecosystem Plans, Bottomfish and Seamount Groundfish, Coral Reef Ecosystems, Crustaceans, Precious Corals, Pelagics, Implementation, American Samoa, Commonwealth of the Northern Mariana Islands, Hawaii, U.S. Pacific Remote Island Area, Wait Period Ends: 11/30/2009, Contact: William L. Robinson, 808-944-2200.

EIS No. 20090362, Draft EIS, DOE, WA, Hanford Site Tank Closure and Waste Management Project, Implementation, Richland, Benton County, WA, Comment Period Ends: 03/19/2010, Contact: Mary Beth Burandi 888-829-6347.

EIS No. 20090363, Draft EIS, SFW, TX, Hays County Regional Habitat Conservation Plan, Application for an Incidental Take Permit, Hays County, TX, Comment Period Ends: 01/28/2010, Contact: Allison Arnold, 512-490-0057 Ext. 242.

EIS No. 20090364, Final EIS, NPS, SD, Wind Cave National Park Project, Elk General Management Plan, Implementation, Custer County, SD, Wait Period Ends: 11/30/2009, Contact: Nick Chevance, 402-661-1844.

EIS No. 20090365, Draft EIS, COE, CO, Moffat Collection System Project, to Provide High Quality Dependable, and Safe Drinking Water to Over 1.1 Million Customers in the City and County of Denver, Application for an Section 404 Permit, City and County Denver, Adams, Boulder, Jeffferson and Grand Counties, CO, Comment Period Ends: 01/28/2010, Contact: Scott Franklin, 303-979-4120.

EIS No. 20090366, Final EIS, FHW, CO, US-36 Corridor, Multi-Modal Transportation Improvements between I-25 in Adams County and Foothills Parkway/Table Mesa Drive in Boulder, Adams, Denver, Broomfield, Boulder and Jefferson Counties, CO, Wait Period Ends: 11/30/2009, Contact: Monica Pavlik, 720-963-3012.

EIS No. 20090367, Draft EIS, USA, 00, Fort Bliss Army Growth and Force Structure Realignment Project, Implementing Land Use Changes and Improving Training Infrastructure to Support the Growth the Army (GTA) Stationing Decision, El Paso Country, TX and Dona Ana and Otero Counties, NM, Comment Period Ends: 12/30/2009, Contact: Jennifer Shore, 703-602-4238.

EIS No. 20090368, Draft EIS, NSA, TN, Y-12 National Security Complex Project, to Support the Stockpile Stewardship Program and to Meet the Mission Assigned to Y-12, Oak Ridge, TN, Comment Period Ends: 01/04/2010, Contact: Pam Gorman, 865-576-9903.

EIS No. 20090369, Draft EIS, USA, LA, Joint Readiness Training Center and Fort Polk Land Acquisition Program, Purchase and Lease Lands for Training and Management Activities, in the Parishes of Vernon, Sabine, Natchitoches, LA, Comment Period Ends: 12/14/2009, Contact: Kristin Evenstad, 703-692-6427.

EIS No. 20090370, Final EIS, NOA, 00, Amendment 16 to the Northwest Multispecies Fishery Management Plan, Propose to Adopt, Approval and Implementation Measures to Continue Formal Rebuilding Program for Overfishing and to End Overfishing on those Stock where it Occurring, Gulf of Maine, Wait Period Ends: 11/30/2009, Contact: Patricia A. Kurkul, 978-281-9200.

Amended Notices

EIS No. 20090312, Draft EIS, COE, OH, Cleveland Harbor Dredged Material Management Plan, Operations and Maintenance, Cuyahoga County, OH, Comment Period Ends: 12/07/2009, Contact: Frank O'Connor, 716-879-4131. Revision to FR Notice Published 09/11/2009: Extending Comment period from 10/26/2009 to 12/07/2009.

Dated: October 27, 2009.
Robert W. Hargrove,
Director, NEPA Compliance Division, Office of Federal Activities.

[FR Doc. E9-26179 Filed 10-29-09; 8:45 am]

BILLING CODE 6560-50-P